DEPARTMENT OF ENERGY

Federal Energy Regulatory Commission

Notice of Application for Transfer of License and Approval of Financing Arrangement and Soliciting Comments, Motions To Intervene, and Protests

February 15, 2005.

Take notice that the following hydroelectric application has been filed with the Commission and is available for public inspection:

a. Type of Application: Partial transfer of license and transfer of license.

b. Project No.: P-2669-039.

c. Date Filed: February 8, 2005.

d. Applicants: USGen New England, Inc., Bear Swamp Generating Trust No. 1 LLC, Bear Swamp Generating Trust No. 2 LLC, Bear Swamp Power Company LLC.

e. Name of Project: Bear Swamp.

f. Location: On the Deerfield River in Franklin and Berkshire Counties, Massachusetts.

g. Filed Pursuant to: Federal Power Act, 16 U.S.C. 791(a)-825(r).

h. Applicants' Contact: Amy S. Koch, Patton Boggs LLP, 2550 M Street, NW., Washington, DC 20037, (202) 457-6000.

i. FERC Contact: James Hunter at (202) 502-6086.

j. Deadline for filing comments, protests, and motions to intervene: March 4, 2005.

All documents (original and eight copies) should be filed with the Secretary, Federal Energy Regulatory Commission, 888 First Street, NE., Washington, DC 20426.

k. Description of Application: Bear Swamp Generating Trust No. 1 LLC, Bear Swamp Generating Trust No. 2 LLC, (the Trusts), USGen New England, Inc. (USGenNE) and Bear Swamp Power Company LLC (BSPC) tendered for filing an application for a two-step transfer of license. First, the Applicants seek the partial transfer of license from USGenNE and the Trusts, as joint licensees, to the Trusts and BSPC, as joint licenses. The Trusts and BSPC then seek approval for a subsequent transfer of license from the Trusts and BSPC to BSPC as sole licensee. The Trusts and BSPC also request that the Commission allow them to consummate the transaction without filing a second application for transfer of the license. BSPC and the Trusts also inform the Commission that there is a possibility that an affiliate of BSPC may operate the Project at the direction of BSPC for a period of time if BSPC has not received its market-based rate authorization from the Commission by the effective date of an interim operating arrangement among BSPC and the Trusts. They respectfully request that the Commission approve such an arrangement.

l. Location of the Application: A copy of the application is available for inspection and reproduction at the Commission's Public Reference Room, located at 888 First Street, NE., Room 2A, Washington, DC 20426 or by calling (202) 208-1371.

This filing is accessible online at http://www.ferc.gov using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

m. Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and eight copies of the protest or intervention to the Federal Energy Regulatory Commission, 888 First Street, NE., Washington, DC 20426.

Magalie R. Salas,
Secretary.

[FR Doc. E5-722 Filed 2-22-05; 8:45 am]

BILLING CODE 6717-01-P